DEPARTMENT OF AGRICULTURE

Agricultural Marketing Service

7 CFR Part 1208

[Document No. AMS-SC-18-0041]

Processed Raspberry Promotion, Research and Information Order; Continuance Referendum

AGENCY: Agricultural Marketing Service, USDA.

ACTION: Notification of referendum order.

SUMMARY: This document directs that a referendum be conducted among eligible producers of raspberries for processing and importers of processed raspberries to determine whether they favor continuance of the Agricultural Marketing Service's (AMS) regulations regarding a national processed raspberry research and promotion program.

DATES: The referendum will be conducted from September 10 through October 5, 2018. The Department will provide the option for ballots to be returned electronically. Further details will be provided in the ballot instructions. Mail ballots must be postmarked by October 5. Ballots delivered via express mail or email must show proof of delivery by no later than 11:59 p.m. Eastern Time (ET) on October 5, 2018, to be counted.

ADDRESSES: Copies of the processed raspberry program may be obtained from: Referendum Agent, Promotion and Economics Division, Specialty Crops Program, AMS, USDA, 1400 Independence Avenue SW, Room 1406-S, Stop 0244, Washington, DC 20250-0244, telephone: (202) 720-9915; facsimile: (202) 205-2800; or contact Hakim Fobia at (202) 720-4835 or via electronic mail: Hakim.Fobia@ams.usda.gov.

FOR FURTHER INFORMATION CONTACT: Hakim Fobia, Marketing Specialist, Promotion and Economics Division, Specialty Crops Program, AMS, USDA, 1400 Independence Avenue SW, Room 1406-S, Stop 0244, Washington, DC 20250-0244; telephone: (202) 720-9915, (202) 720-4835 (direct line); facsimile: (202) 205-2800; or electronic mail: Hakim.Fobia@ams.usda.gov.

SUPPLEMENTARY INFORMATION: Pursuant to the Commodity Promotion, Research, and Information Act of 1996 (7 U.S.C. 7411-7425) (1996 Act), it is hereby directed that a referendum be conducted to ascertain whether continuance of the Processed Raspberry Promotion, Research and Information Order (7 CFR part 1208) is favored by eligible producers of raspberries for processing and importers of processed raspberries. The program is authorized under the 1996 Act.

The representative period for establishing voter eligibility for the referendum shall be the period from January 1 through December 31, 2017. Persons who produced 20,000 pounds or more of raspberries for processing in the United States or imported 20,000 pounds or more of processed raspberries into the United States during the representative period and were subject to assessment during that period are eligible to vote. Persons who received an exemption from assessments pursuant to § 1208.53 for the entire representative period are ineligible to vote. The referendum will be conducted from September 10 through October 5, 2018. The Department will provide the option for ballots to be returned electronically. Further details will be provided in the ballot instructions.

Section 518 of the 1996 Act (7 U.S.C. 7417) authorizes continuance referenda. Under § 1208.71(b), the U.S. Department of Agriculture (USDA) must conduct a referendum every seven years to determine whether eligible producers of raspberries for processing and importers of processed raspberries favor continuance of the program. A referendum also may be held by a request of 10 percent or more of all the eligible producers and importers, by request of the National Processed Raspberry Council, which administers the program, or by the Secretary of Agriculture. In March 2018, USDA received a petition requesting a referendum from more than the required 10 percent of eligible entities, thus USDA will hold a referendum. The program will continue if it is favored by a majority of eligible producers and importers voting in the referendum.

In accordance with the Paperwork Reduction Act of 1995 (44 U.S.C. chapter 35), the referendum ballot has been approved by the Office of Management and Budget (OMB) and assigned OMB No. 0581-0093. It has been estimated that approximately 200 entities will be eligible to vote in the referendum. It will take an average of 15 minutes for each voter to read the voting instructions and complete the referendum ballot.

Referendum Order

Hakim Fobia, Marketing Specialist, and Heather Pichelman, Director, Promotion and Economics Division, Specialty Crops Program, AMS, USDA, Stop 0244, Room 1406-S, 1400 Independence Avenue SW, Washington, DC 20250-0244, are designated as referendum agents for this referendum. The referendum procedures at 7 CFR 1208.100 through 1208.108, issued pursuant to the 1996 Act, will be used to conduct the referendum.

The referendum agents will mail the ballots to be cast in the referendum and voting instructions to all known, eligible producers and importers prior to the first day of the voting period. Persons who produced 20,000 pounds or more of raspberries for processing in the United States or imported 20,000 pounds or more of processed raspberries into the United States during the representative period and were subject to assessment during that period are eligible to vote. Persons who received an exemption from assessments pursuant to § 1208.53 during the entire representative period are ineligible to vote. Any eligible producer of raspberries for processing or importer of processed raspberries who does not receive a ballot should contact a referendum agent no later than one week before the end of the voting period. Mail ballots must be postmarked by October 5. Ballots delivered via express mail or email must show proof of delivery by no later than 11:59 p.m. ET on October 5, 2018, to be counted.

List of Subjects in 7 CFR Part 1208

Administrative practice and procedure, Advertising, Consumer information, Marketing agreements, Raspberry promotion, Reporting and recordkeeping requirements.

Authority: 7 U.S.C. 7411-7425; 7 U.S.C. 7401.

Dated: July 20, 2018.
Bruce Summers,
Administrator.

[FR Doc. 2018-15894 Filed 7-24-18; 8:45 am]

BILLING CODE 3410-02-P